NUCLEAR REGULATORY COMMISSION

[NRC-2013-0170]

Status of the Office of New Reactors' Implementation of Electronic Distribution of Advanced Reactor Correspondence

AGENCY: Nuclear Regulatory Commission.

ACTION: Implementation of electronic distribution of advanced reactor correspondence; issuance.

SUMMARY: The U.S. Nuclear Regulatory Commission (NRC) is issuing this Federal Register notice to inform the public that, in the future, publicly available correspondence originating from the Division of Advanced Reactors and Rulemaking (DARR) in the Office of New Reactors (NRO) will be transmitted only by a computer-based email distribution system listserv to addressees and subscribers. This change does not affect the availability of official agency records in the NRC's Agencywide Documents Access and Management System (ADAMS), which may be accessed through NRC's Web page at www.nrc.gov.

ADDRESSES: Please refer to Docket ID NRC-2013-0170 when contacting the NRC about the availability of information regarding this document. You may access information related to this document, which the NRC possesses and is publicly available, using any of the following methods:

• Federal Rulemaking Web site: Go to http://www.regulations.gov and search for Docket ID NRC-2013-0170. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Cameron S. Goodwin, Office of New Reactors, U.S. Nuclear Regulatory Commission, Washington, DC 20555-0001; telephone: 301-415-6146; email: Cameron.Goodwin@nrc.gov.

Further information

This electronic distribution process was first utilized by the Division of Operating Reactor Licensing (DORL) in October 2008. All four regions are also utilizing this process for their operating reactor correspondence. Region 2 was the final region to convert to electronic distribution in June of 2013. Public feedback regarding this process has been positive. This process distributes correspondence documents to the addressees and members of the listserv at the same time. Distribution of documents containing safeguards, proprietary or security-related information, or other information that is withheld from public disclosure will not be affected by this initiative.

This initiative will be implemented by August 2013. Individuals may subscribe to receive DARR generated correspondence by entering the following URL into their web browser address bar: http://www.nrc.gov/public-involve/listserver.html, Or through NRC's Web site, www.nrc.gov. as described below:

1. Go to the NRC's public Web site (www.nrc.gov).

2. Click on the “Public Meetings and Involvement” tab.

3. On this page, under the heading “Information and Meeting Schedules to Help You Participate,” click on “Subscribe to Email Updates.”

4. On this page, scroll down to the Lyris Subscription Services.

5. Enter your email address.

6. You have the option to select “All Advanced Reactor Correspondence” or the individual designs.

7. Once you have selected the designs, click on the “Subscribe” button.

Dated at Rockville, Maryland, this 22nd day of July 2013.
For the Nuclear Regulatory Commission.
Cameron S. Goodwin,
Project Manager, Small Modular Reactor Licensing Branch 2, Division of Advanced Reactors and Rulemaking, Office of New Reactors.

[FR Doc. 2013-18522 Filed 7-31-13; 8:45 am]

BILLING CODE 7590-01-P